DEPARTMENT OF LABOR

Agency Information Collection Activities; Submission for OMB Review; Comment Request; Opportunities for Youth Demonstration and Evaluation Participant Tracking System

AGENCY: Office of the Assistant Secretary for Policy, Chief Evaluation Office, Labor

ACTION: Notice.

SUMMARY: The Department of Labor (DOL), as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that required data can be provided in the desired format, reporting burden (time and financial resources) is minimized, collection instruments are clearly understood, and the impact of collection requirements on respondents can be properly assessed. The Department is soliciting comments concerning its proposal to collect information from program participants through a participant tracking system (PTS).

DATES: Written comments must be submitted to the office listed in the addressee section below on or before September 22, 2014.

ADDRESSES: A copy of this information collection request, with applicable supporting documentation; including a description of the likely respondents, proposed frequency of response, and estimated total burden may be obtained free of charge contacting Jonathan Simonetta, Chief Evaluation Office, U.S. Department of Labor, Room S-2312, 200 Constitution Avenue NW., Washington, DC 20210.

You may submit comments by one of the following methods: Email: ChiefEvaluationOffice@dol.gov; Mail or Courier: Jonathan Simonetta, Chief Evaluation Office, U.S. Department of Labor, Room S-2312, 200 Constitution Avenue NW., Washington, DC 20210. Instructions: Please submit one copy of your comments by only one method. Because we continue to experience delays in receiving mail in the Washington, DC area, commenters are strongly encouraged to transmit their comments electronically via email or to submit them by mail early.

FOR FURTHER INFORMATION CONTACT: Jonathan Simonetta, Chief Evaluation Office, 200 Constitution Avenue NW., Frances Perkins Bldg., Room S2312, Washington, DC 20210, by telephone at 202-693-5959 (this is not a toll-free number) or by email at ChiefEvaluationOffice@dol.gov.

SUPPLEMENTARY INFORMATION:

1. Background: The Opportunities for Youth project has three primary goals: (1) To develop and pilot promising intervention(s) to improve the employment outcomes of disconnected youth, (2) to conduct a formative evaluation of the implementation of the intervention, and (3) to design and assess an implementation analysis, and an assessment of systemic factors that are necessary to successfully implement the intervention. Disconnected youth are defined as young people between the ages of 16 and 24 who are not currently in school or employed. This is the first time DOL will focus on evaluation specifically on disconnected youth.

The proposed interventions fill gaps in services and expand on current services in two pilot sites, Boston's Mayor's Office of Jobs & Community Services (MOJCS) and Baltimore's Mayor's Office of Employment Development (MOED). In Boston, the proposed intervention fills a gap in services by providing career training for youth who have completed their GED or high school degree. In Boston, according to MOJCS, educational programs aimed at young people steer them toward a four-year college degree, while career training is geared toward adults. Boston's MOJCS currently provides programs that aim to get youth a high school degree. A career training program to serve youth who have completed their high school degree would fill an important gap in services. In Baltimore, the proposed intervention primarily expands on current services for disconnected youth who do not have a high school degree. The proposed intervention developed with Baltimore is designed to keep youth without a high school degree engaged in an academic and career training program until they receive their certification and degree and to provide financial support during that process. The proposal would expand on the current services provided for these youth in Baltimore by creating an integrated job training program for them.

Underpinning both of these proposals will be the provision of a caring adult who will help participants navigate their respective education and training programs. These caring adults will take the form of a career navigator or case manager who will meet frequently with participants as they go through their respective programs and provide consistent support to these disconnected youth as they traverse their education and training.

To gauge the efficacy of the services provided to participants in these two cities, a participant tracking system (PTS) will be developed to measure youth outcomes, program implementation, and relevant contextual (systemic) factors of every participant who enters the two respective programs. The data collection effort with this group will gather information about participants' demographic backgrounds; their education and training as they go through their respective programs; their employment and wages before, during, and after program completion; the supports they receive; and their interactions with their assigned caring adult.

This tracking system will provide critical information to Department policymakers on whether participants are effectively receiving education and training services, as well as the dosage and length of the caring adult model services. Data collection tasks include: (1) Design and test the PTS; and (2) execute the PTS, and (3) analyze the data and report the results. The period of performance of this evaluation ends in March 2016. The overall budget for the evaluation is $3,000,000. The evaluation contractor is The Urban Institute.

2. Desired Focus of Comments: Interested parties are encouraged to provide comments to the contact shown in the ADDRESSES section. Comments must be written to receive consideration, and they will be summarized and included in the request for OMB approval of the final ICR. In order to help ensure appropriate consideration, comments should mention the name of the Information Collection.

Submitted comments will also be a matter of public record for this ICR and posted on the Internet, without redaction. Comments received will also be summarized and addressed in the request submitted for Office of Management and Budget approval. DOL encourages commenters not to include personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the information collection on those who are to respond, including the use of appropriate automated, electronic, mechanical, or other technological collection techniques or other forms of information technology, e.g., permitting electronic submissions of responses.

3. Current Actions: Pursuant to the PRA implementing regulations at 5 CFR § 1320.8(d)(1), this notice requests comments on the proposed information collection request discussed above in the Background section of this notice. Interested parties are encouraged to provide comments as described in the ADDRESSES section above.

Agency: Office of the Assistant Secretary for Policy.

Type of Review: New Collection.

Title of Collection: Opportunities for Youth Demonstration and Evaluation Participant Tracking System.

OMB Control Number: 1290-0NEW.

Affected Public: Individuals or Households.

Total Estimated Number of Respondents (Unduplicated): 250.

Total Estimated Number of Responses (Unduplicated): 250.

Estimated Time per Response: .25 hours.

Total Estimated Annual Time Burden: 62.5 hours.

Estimated Other Costs per Response: $0.

Total Estimated Annual Other Costs Burden: $0.

Dated: July 16, 2014.
James H. Moore, Jr.,
Deputy Assistant Secretary for Policy, Office of the Assistant Secretary for U.S. Department of Labor.

[FR Doc. 2014-17224 Filed 7-21-14; 8:45 am]

BILLING CODE 4510-23-P